DEPARTMENT OF THE INTERIOR

Bureau of Indian Affairs

Submission of Information Collection to Office of Management and Budget

AGENCY: Bureau of Indian Affairs, Interior.

ACTION: Notice.

SUMMARY: In compliance with the Paperwork Reduction Act of 1995, the Bureau of Indian Affairs (BIA) is submitting this information collection request to the Office of Management and Budget for review and renewal. The collection is: 25 CFR 162 Leases and Permits, 1076-0155.

DATES: Comments must be received on or before April 30, 2007, to be assured of consideration.

ADDRESSES: Comments should be sent to the Desk Officer for the Department of the Interior at the Office of Management and Budget. You may submit comments either by facsimile at (202) 395-6566, or by e-mail to OIRA_DOCKET@omb.eop.gov. Please send a copy to Ben Burshia, Chief, Division of Real Estate Services, Bureau of Indian Affairs, 1849 C Street, NW., Mail Stop 4639-MIB, Washington, DC 20240.

FOR FURTHER INFORMATION CONTACT: Interested persons may obtain a copy of the information collection requests without charge by contacting Ben Burshia at (202) 219-1195.

SUPPLEMENTARY INFORMATION: The Paperwork Reduction Act of 1995 provides an opportunity for interested parties to comment on proposed information collection requests. This collection covers 25 CFR part 162 as presently approved. The Bureau of Indian Affairs, Division of Real Estate Services, is obtaining a normal information collection clearance from OMB. The request contains (1) Type of review, (2) title, (3) summary of the collection, (4) respondents, (5) frequency of collection, (6) reporting and record keeping requirements and (7) reason for response.

A Federal Register notice was published on January 25, 2007 (72 FR 3406) requesting comments on our proposed submission of renewal to OMB. No comments were received. The information collected is used by the Bureau of Indian Affairs to determine:

(a) Whether or not a lease may be approved or granted;

(b) The value of each lease;

(c) The appropriate compensation to landowners; and

(d) Provisions for violations of trespass.

Request for Comments

The Bureau of Indian Affairs requests you to send your comments on this collection to the locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB has up to 60 days to make a decision on the submission for renewal, but may make the decision after 30 days. Therefore, to receive the best consideration of your comments, you should submit them closer to 30 days than 60 days.

25 CFR 162—Leases and Permits

Type of review: Extension of a currently approved collection.

Title: 25 CFR 162, Lease and Permits.

Summary: This collection of information is being renewed with substantially no change. Generally trust and restricted land may be leased by Indian land owners, with the approval of the Secretary of the Interior, except when specified by a specific statute. The Secretary requests information on the documentation collected when processing a lease on land held in trust or restricted status by an individual Indian or tribe. The information is used to determine approval of a lease, amendment, assignment, sublease, mortgage or related document. No specific form is used, however, in order to satisfy the Federal Law, regulation and policy the respondents supply information and data, in accordance with 25 CFR part 162.

Respondents: Possible respondents include: Land owners of trust or restricted Indian land, both tribal and individual, wanting to lease their land or someone wanting to lease trust or restricted Indian land.

Number of Respondents: 14,500.

Estimated Time per Response: The time per response varies from 15 minutes to 3 hours.

Frequency of Response: This is a one-time collection per lease approval.

Total Annual Responses: 121,140.

Total Annual Burden to Respondents: 106,065 hours.

Total Annual Fees from Respondents: BIA collects fees for processing submitted documents, as set forth in section 162.241 or 162.616. The minimum administrative fee is $10.00 and the maximum administrative fee is $500.00. The average total administrative fees collected is $250.00, which is collected approximately 7,252 times, totaling $1,813,000.

Dated: March 28, 2007.
Carl J. Artman,
Assistant Secretary—Indian Affairs.

[FR Doc. 07-1606 Filed 3-28-07; 12:55 pm]

BILLING CODE 4310-W7-P